DEPARTMENT OF COMMERCE

Foreign-Trade Zones Board

[S-45-2018]

Approval of Subzone Status; International Converter, Inc.; Caldwell, Ohio

On March 7, 2018, the Executive Secretary of the Foreign-Trade Zones (FTZ) Board docketed an application submitted by the Columbus Regional Airport Authority, grantee of FTZ 138, requesting subzone status subject to the existing activation limit of FTZ 138, on behalf of International Converter, Inc., in Caldwell, Ohio.

The application was processed in accordance with the FTZ Act and Regulations, including notice in the Federal Register inviting public comment (83 FR 10839, March 13, 2018). The FTZ staff examiner reviewed the application and determined that it meets the criteria for approval. Pursuant to the authority delegated to the FTZ Board Executive Secretary (15 CFR Sec. 400.36(f)), the application to establish Subzone 138H was approved on April 26, 2018, subject to the FTZ Act and the Board's regulations, including Section 400.13, and further subject to FTZ 138's 2,000-acre activation limit.

Dated: April 26, 2018.
Andrew McGilvray,
Executive Secretary.

[FR Doc. 2018-09284 Filed 5-1-18; 8:45 am]

BILLING CODE 3510-DS-P